DEPARTMENT OF HEALTH AND HUMAN SERVICES

Centers for Disease Control and Prevention

[30 Day-05-04KD]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 371-5983 or send an e-mail to omb@cdc.gov. Send written comments to CDC Desk Officer, Office of Management and Budget, Washington, DC or by fax to (202) 395-6974. Written comments should be received within 30 days of this notice.

Proposed Project

Tremolite Asbestos Registry—NEW—The Agency for Toxic Substances and Disease Registry (ATSDR).

Background and Brief Description: The Agency for Toxic Substances and Disease Registry (ATSDR) is mandated pursuant to the 1980 Comprehensive Environmental Response Compensation and Liability Act (CERCLA) and its 1986 Amendments, the Superfund Amendments and Re-authorization Act (SARA), to establish and maintain a national registry of persons who have been exposed to hazardous substances in the environment and a national registry of persons with illnesses or health problems resulting from such exposure. In 1988, ATSDR created the National Exposure Registry (NER) as a result of this legislation in an effort to provide scientific information about potential adverse health effects people develop as a result of low-level, long-term exposure to hazardous substances.

The NER is a program which collects, maintains, and analyzes information obtained from participants (called registrants) whose exposure to selected toxic substances at specific geographic areas in the United States has been documented. Relevant health data and demographic information are also included in the NER databases. The NER databases furnish the information needed to generate appropriate and valid hypotheses for future activities such as epidemiologic studies. The NER also serves as a mechanism for longitudinal health investigations that follow registrants over time to ascertain adverse health effects and latency periods.

The Tremolite Asbestos Registry (TAR) is currently authorized as part of the National Exposure Registry (OMB #0923-0006, expiration 10/31/05). ATSDR is seeking a separate approval for the TAR activities. The purpose of the TAR will be to improve communication with people at risk for developing asbestos-related disease resulting from asbestos exposure in Libby, Montana, and to support research activities related to TAR registrants.

The TAR is currently composed of information about former vermiculite workers, the people that lived with them during their tenure as vermiculite workers (i.e., the workers and their household contacts), and people who participated in or are eligible to participate in the ATSDR medical testing program in Libby, Montana.

ATSDR will take a phased approach to creating the TAR. Phase I, which is currently nearing completion, involved identifying, locating, and contacting former workers and their household members. Phase II will combine the data from Phase I and the data collected during the medical testing program to create a single database. Phase III will involve re-contacting registrants to update their information. There is no cost to registrants other than their time. The total estimated annual burden hours are 680.

Estimated Annualized Burden Hours
Forms | Number of respondents | Responses per respondent | Avg. burden per response (in hrs.)
Baseline TAR | 667 | 1 | 30/60
Follow-up | 833 | 1 | 25/60

Dated: September 28, 2005.
Betsey Dunaway,
Acting Reports Clearance Officer, Centers for Disease Control and Prevention.

[FR Doc. 05-19881 Filed 10-3-05; 8:45 am]

BILLING CODE 4163-18-P